DEPARTMENT OF HOUSING AND URBAN DEVELOPMENT

[Docket No. FR-7024-N-35]

30-Day Notice of Proposed Information Collection: Allocation of Operating Fund Grant Under the Operating Fund Formula: Data Collection; OMB Control Number (2577-0029)

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: September 21, 2020.

ADDRESSES: Interested persons are invited to submit comments regarding this proposal. Written comments and recommendations for the proposed information collection should be sent within 30 days of publication of this notice to www.reginfo.gov/public/do/StartPrintedPage15501PRAMain. Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on May 15, 2020 at 85 FR 29473.

A. Overview of Information Collection

Title of Information Collection: Allocation of Operating Funds under the Operating Fund Formula: Data Collection.

OMB Approval Number: 2577-0029.

Type of Request: Extension of currently approved collections.

Form Number: HUD-52722 and HUD-52723.

Description of the need for the information and proposed use: Public Housing Agencies (PHAs) use this information in budget submissions which are reviewed and approved by HUD field offices as the basis for obligating the operating fund grant. This information is necessary to calculate the eligibility for the operating fund grant under the Operating Funding Program regulations, as amended. The Operating Fund is designed to provide the amount of operating funds needed for well-managed PHAs. PHAs submit the information electronically with these forms.

The following changes occurred in this submission. The form no longer includes blocks 4. Unit Change Indicator and 5. Rate Reduction Incentive. The form includes adjustments to improve the workflow of the form. Adjustments include changes to formatting and adding Line 19 Total base utilities expense level for respondents to clearly understand where to sum the results of data collected in columns.

HUD collects information for HUD-52723 and HUD-52722 through VBA enhanced Microsoft Excel Tools. In fiscal year 2021, HUD plans to transition to web-based forms HUD-52723 and HUD-52722. HUD planned a phased launch of the web-based collection. Initially the collection by web-based forms is limited to subset PHAs that HUD expands each subsequent year until all PHAs exclusively use the web-based forms. PHAs without access to the web-based forms continue to use the Excel based forms. Web-based forms improves the availability of the forms to PHAs, improves data integrity, and secure transfer of the data from the PHA to HUD.

Total Estimated Burdens:

Information collection | Number of respondents | Frequency of response | Number of responses per respondent | Responses per annum | Total annual burden hours | Hourly cost per response | Annual cost
HUD-52722 | 7,000 | 1 | 7,000 | 0.75 | 5,250 | $33.34 | $175,035
HUD-52723 | 7,000 | 1 | 7,000 | 0.75 | 5,250 | 33.34 | 175,035
Total | 14,000 |  | 14,000 |  | 10,500 |  | 350,070

B. Solicitation of Public Comment

This notice is soliciting comments from members of the public and affected parties concerning the collection of information described in Section A on the following:

(1) Whether the proposed collection of information is necessary for the proper performance of the functions of the agency, including whether the information will have practical utility.

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses.

(5) Ways to minimize the burden of the collection of information on those who are to respond, including the use of automated collection techniques or other forms of information technology.

HUD encourages interested parties to submit comment in response to these questions.

C. Authority

Section 3507 of the Paperwork Reduction Act of 1995, 44 U.S.C. Chapter 35.

Dated: August 14, 2020.
Anna Guido,
Department Reports Management Officer, Office of the Chief Information Officer.

[FR Doc. 2020-18383 Filed 8-20-20; 8:45 am]

BILLING CODE 4210-67-P